DEPARTMENT OF COMMERCE

National Oceanic and Atmospheric Administration

[I.D. 112503A]

Endangered Species; File No. 1451

AGENCY: National Marine Fisheries Service (NMFS), National Oceanic and Atmospheric Administration (NOAA), Commerce.

ACTION: Receipt of application.

SUMMARY: Notice is hereby given that NMFS, Office of Sustainable Fisheries, 1315 East-West Highway, Silver Spring, Maryland, 20910, has applied in due form for a permit to take threatened and endangered sea turtles for purposes of scientific research.

DATES: Written or telefaxed comments must be received on or before December 31, 2003.

ADDRESSES: The application and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

FOR FURTHER INFORMATION CONTACT: Carrie Hubard or Sarah Wilkin, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to initiate a sea turtle observer program for the shark bottom longline fishery in the western North Atlantic and Gulf of Mexico. The incidental capture of sea turtles by the fishery is covered by the Biological Opinion for the Highly Migratory Species Fishery Management Plan for Atlantic Tunas, Swordfish, and Sharks. If issued, this permit would authorize only the sampling of the sea turtles incidentally caught in the fishery, as recommended in the Biological Opinion. Unless they are too large to be safely boated, captured turtles would be brought on board and identified, measured, weighed, PIT tagged, and have a biopsy sample taken for genetic research. Turtles would be dehooked and/or disentangled and subsequently released. The purpose of the observer program is to monitor the impact of bottom longlining on protected species and to obtain information on sea turtle populations. All observers would be trained in the sampling techniques and provided the proper equipment before sailing on a fishing vessel. In accordance with the fishery's Biological Opinion, the applicant requests authority to sample 12 loggerhead (Caretta caretta), 2 leatherback (Dermochelys coriacea) 2 Kemp's ridley (Lepidochelys kempii), 2 green (Chelonia mydas), and 2 hawksbill (Eretmochelys imbricata) turtles annually. The permit would be valid for a period of five years.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Dated: November 25, 2003.
Stephen L. Leathery,
Chief, Permits, Conservation and Education Division, Office of Protected Resources, National Marine Fisheries Service.

[FR Doc. 03-29829 Filed 11-28-03; 8:45 am]

BILLING CODE 3510-22-S